DEPARTMENT OF COMMERCE

International Trade Administration

[A-570-804]

Sparklers from the People's Republic of China: Final Results of Antidumping Duty Administrative Review

AGENCY: Import Administration, International Trade Administration, Department of Commerce.

ACTION: Final Results of Antidumping Duty Administrative Review.

SUMMARY: On April 6, 2000, the Department of Commerce (the “Department”) published the preliminary results of its administrative review of the antidumping duty order on Sparklers from the People's Republic of China. See Sparklers from the People's Republic of China: Preliminary Results of Antidumping Duty Administrative Review, 65 FR 18059 (April 6, 2000) (“Preliminary Results”). The review covers three manufacturers/exporters of this merchandise to the United States, Guangxi Native Produce Import & Export Corporation, Beihai Fireworks and Firecrackers Branch (“Guangxi”); Hunan Provincial Firecrackers & Fireworks Import & Export (Holding) Corporation, Liling City Fireworks Bomb Fty. (“Hunan”); and Jiangxi Native Produce Import & Export Corporation, Guangzhou Fireworks Company (“Jiangxi”) (collectively “the respondents”). The period of review is June 1, 1998, through May 31, 1999. We gave interested parties an opportunity to comment on the Preliminary Results of review but received no comments. Therefore, these final results do not differ from the Preliminary Results of review, in which we found that the use of facts available is appropriate.

EFFECTIVE DATE: July 13, 2000.

FOR FURTHER INFORMATION CONTACT: Paige Rivas or Nithya Nagarajan, Import Administration, International Trade Administration, U.S. Department of Commerce, 14th and Constitution Avenue, NW, Washington, DC 20230; telephone: (202) 482-0651 or (202) 482-5253, respectively.

SUPPLEMENTARY INFORMATION:

The Applicable Statute

Unless otherwise indicated, all citations to the Tariff Act of 1930, as amended (“the Act”), are references to the provisions effective January 1, 1995, the effective date of the amendments made to the Act by the Uruguay Rounds Agreements Act (“URAA”). In addition, unless otherwise indicated, all citations to the Department's regulations are to 19 CFR part 351 (1999).

Background

On April 6, 2000, the Department published in the Federal Register (65 FR 18059) the Preliminary Results of the administrative review of the antidumping duty order on Sparklers from the People's Republic of China for the 98-99 review period. We invited parties to comment on our Preliminary Results of review. On April 21, 2000, petitioner submitted comments that were returned by the Department because they contained untimely new factual information. In a letter dated May 2, 2000, the Department requested that petitioner resubmit a revised version of the comments that reflected only information already on the record by May 8, 2000. Petitioner did not resubmit its comments.

In the Preliminary Results, we determined that it was appropriate to use, as adverse facts available for the PRC-wide rate, the highest rate from this or any previous segment of the proceeding. We selected the PRC-wide rate of 93.54 percent from Sparklers from the People's Republic of China: Adverse Decision and Amendment to Final Determination of Sales at Less Than Fair Value and Antidumping Duty Order in Accordance with Decision on Remand, 58 FR 40624 (July 29, 1993). We have now completed the administrative review in accordance with section 751 of the Act and have continued to use the rate of 93.54 percent as adverse facts available.

Scope of the Review

The products covered by this administrative review are sparklers from the People's Republic of China. Sparklers are fireworks, each comprising a cut-to-length wire, one end of which is coated with a chemical mix that emits bright sparks while burning. Sparklers are currently classifiable under subheading 3604.10.00 of Harmonized Tariff Schedules (“HTS”). The HTS subheading is provided for convenience and Customs purposes. The written description remains dispositive as to the scope of this proceeding.

Analysis of Comments Received

Other than the petitioner's comments that were rejected for containing untimely new factual information, we did not receive any interested party comments on our Preliminary Results. Therefore, there is no Issues and Decision Memorandum for the final results of review.

Use of Facts Otherwise Available

As determined in the Preliminary Results, the Department continues to use adverse facts available for the final results of review. Because we have received no responses and have not been contacted by the respondents, we determine that the use of facts available is appropriate. See Preliminary Results.

Final Results of Review

Because we received no comments from interested parties on our Preliminary Results, we have determined that no changes to our analysis are warranted for purposes of these final results. As a result of our review, we determine that the following margin exists for the period June 1, 1998, through May 31, 1999:

Exporter/manufacturer | Weighted-average margin percentage
PRC-wide | 93.54

Cash Deposit Requirements

The following cash deposit requirements will be effective upon publication of the final results of this administrative review for all shipments of the subject merchandise entered, or withdrawn from warehouse, for consumption on or after the publication date, as provided for by section 751(a)(1) of the Act: (1) For previously reviewed or investigated companies that have a separate rate and for which no review was requested, the cash deposit rate will continue to be the company-specific rate published for the most recent period; (2) for all other PRC exporters, the cash deposit rate will be the rate indicated above; and (3) the cash deposit rate for non-PRC exporters will be the rate applicable to the PRC supplier of the exporter. These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: June 28, 2000.
Troy H. Cribb,
Acting Assistant Secretary for Import Administration.

[FR Doc. 00-17762 Filed 7-12-00; 8:45 am]

BILLING CODE 3510-DS-P